SURFACE TRANSPORTATION BOARD

[Docket No. AB 1310X]

Northwestern Pacific Railroad Company—Discontinuance of Service Exemption—in Marin, Napa, and Sonoma Counties, Cal.

On February 22, 2021, Northwestern Pacific Railroad Company (NWPCO) filed a petition under 49 U.S.C. 10502 for exemption from the prior approval requirements of 49 U.S.C. 10903 to discontinue service over the rail line extending between approximately milepost NWP 89 near the Sonoma-Mendocino County, Cal., border and approximately milepost SP 63.4 at Lombard, Cal., a distance of approximately 87.65 miles, in Marin, Napa, and Sonoma Counties, Cal. (the Line). The Line traverses U.S. Postal Service Zip Codes 95448, 95425, 95492, 95441, 95439, 95403, 95401, 95407, 94928, 94931, 94951, 94954, 94952, 94945, 94949, 94503, 95476, and 94559.

According to NWPCO, it provides service on the Line pursuant to a lease with the North Coast Railroad Authority (NCRA). See Nw. Pac. R.R.—Change in Operators Exemption—N. Coast R.R. Auth., FD 35073 (STB served Aug. 30, 2007). NWPCO states that NCRA owns the portion of the Line between the Sonoma-Mendocino County border and NWP milepost 68.2, in Healdsburg, Cal., and that NCRA has a freight rail operating easement on the portion of the Line between Healdsburg and Lombard, which is owned by Sonoma-Marin Area Rail Transit District (SMART). See Sonoma-Marin Area Rail Transit Dist.—Acquis. Exemption—Nw. Pac. R.R. Auth., FD 34400 (STB served Mar. 10, 2004). NWPCO explains that NCRA is expected to transfer its property interests and common carrier obligations on the Line to SMART, and that SMART has filed for acquisition authority with the Board. See Sonoma-Marin Area Rail Transit Dist.—Acquis. & Operation Exemption—N. Coast R.R. Auth., FD 36481 (STB served Feb. 18, 2021). NWPCO asserts that SMART would then assume operations on the Line as a rail common carrier ¹ and that no customer on the Line would have an interruption in service as a result of the proposed discontinuance.

¹ The petition indicates that, at least temporarily, SMART would engage NWPCO as SMART's contract operator on the Line.

NWPCO asserts that, because it is seeking discontinuance rather than an abandonment, the question of whether the Line contains any federally granted rights-of-way is inapplicable. NWPCO states, however, that any documentation related to title in its possession would be made available to those requesting it. NWPCO states that the Line over which it seeks discontinuance authority represents the entire scope of its “active rail service,” and it therefore requests that the Board decline to impose labor protection conditions.²

² NWPCO states that, for the immediate future, it will retain operating authority over a segment of rail line north of the Line from milepost 89 to milepost 142.5. NWPCO, however, asserts that it has never offered service on this portion of rail line due to an emergency order by the Federal Railroad Administration prohibiting railroad operations.

By issuance of this notice, the Board is instituting an exemption proceeding pursuant to 49 U.S.C. 10502(b). A final decision will be issued by June 11, 2021.

Because this is a discontinuance proceeding and not an abandonment, interim trail use/rail banking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.³ Persons interested in submitting an OFA must first file a formal expression of intent to file an offer by March 22, 2021, indicating the intent to file an OFA for subsidy and demonstrating that they are preliminarily financially responsible. See 49 CFR 1152.27(c)(1)(i).

³ The filing fee for OFAs can be found at 49 CFR 1002.2(f)(25).

All filings in response to this notice must refer to Docket No. AB 1310X and should be filed with the Surface Transportation Board via e-filing on the Board's website. In addition, a copy of each pleading must be served on NWPCO's representative, Justin J. Marks, Clark Hill PLC, 1001 Pennsylvania Ave. NW, Suite 1300 South, Washington, DC 20004. Replies to this petition are due on or before April 1, 2021.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0305. Assistance for the hearing impaired is available through the Federal Relay Service at (800) 877-8339.

Board decisions and notices are available at www.stb.gov.

Decided: March 8, 2021.
By the Board, Allison C. Davis, Director, Office of Proceedings.
Kenyatta Clay,
Clearance Clerk.

[FR Doc. 2021-05104 Filed 3-11-21; 8:45 am]

BILLING CODE 4915-01-P